DEPARTMENT OF COMMERCE

National Oceanic and Atmospheric Administration

[RTID 0648-XA490]

Caribbean Fishery Management Council; Public Meeting

AGENCY: National Marine Fisheries Service (NMFS), National Oceanic and Atmospheric Administration (NOAA), Commerce.

ACTION: Notice of public meeting.

SUMMARY: The Caribbean Fishery Management Council's (Council) District Advisory Panels (DAPs), the Outreach and Education Advisory Panel (OEAP), and the Liaison Officers, will hold a joint public virtual meeting to address the items contained in the tentative agenda included in the SUPPLEMENTARY INFORMATION.

DATES: The DAPs, OEAP and Liaison Officers joint public virtual meeting will be held on October 7, 2020, from 1 p.m. to 3:30 p.m., Eastern Day Time.

ADDRESSES: You may join the DAPs/OEAP/Liaison Officers joint public virtual meeting (via GoToMeeting) from a computer, tablet or smartphone by entering the following address:

Please join the meeting from your computer, tablet or smartphone.

https://global.gotomeeting.com/join/792633909

You can also dial in using your phone.

United States: +1 (646) 749-3122.

Access Code: 792-633-909.

Get the app now and be ready when the meeting starts: https://global.gotomeeting.com/install/792633909.

FOR FURTHER INFORMATION CONTACT: Miguel Rolón, Executive Director, Caribbean Fishery Management Council, 270 Muñoz Rivera Avenue, Suite 401, San Juan, Puerto Rico 00918-1903, telephone: (787) 398-3717.

SUPPLEMENTARY INFORMATION: The following items included in the tentative agenda will be discussed:

1 p.m.-1:10 p.m.

—Introduction—Miguel A. Rolón

1:10 p.m.-1:30 p.m.

—Concepts of Outreach and Education—Alida Ortíz

—Liaison Officers Presentations

1:30 p.m.-1:40 p.m.

—Liaison Officer St. Thomas/St. John—Nicole Greaux

1:40 p.m.-1:50 p.m.

—Liaison Officer St. Croix—Nikita Charles

1:50 p.m.-2 p.m.

—Liaison Officer Puerto Rico—Wilson Santiago

2 p.m.-2:10 p.m.

—Break

—DAPs Chairs Presentations

2:10 p.m.-2:20 p.m.

—St. Thomas/St. John DAP Chair—Julian Magras

2:20 p.m.-2:40 p.m.

—St. Croix DAP Chair—Edward Schuster

2:40 p.m.-2:50 p.m.

—Puerto Rico DAP Chair—Nelson Crespo

2:50 p.m.-3:30 p.m.

—General Discussion and Recommendations

The order of business may be adjusted as necessary to accommodate the completion of agenda items. The meeting will begin on October 7, 2020, at 1 p.m. EDT, and will end on October 7, 2020, at 3:30 p.m. EDT. Other than the start time, interested parties should be aware that discussions may start earlier or later than indicated, at the discretion of the Chair.

Special Accommodations

Simultaneous interpretation will be provided. To receive interpretation in Spanish you can dial into the meeting as follows:

US/Canada: Call +1-888-947-3988, when system answers, enter 1*999996#. Para interpretación en inglés marcar:

US/Canada: Call +1-888-947-3988, cuando el sistema conteste, entrar el siguiente número 2*999996#.

For any additional information on this joint public virtual meeting, please contact Diana Martino, Caribbean Fishery Management Council, 270 Muñoz Rivera Avenue, Suite 401, San Juan, Puerto Rico 00918-1903, telephone: (787) 226-8849.

Authority: 16 U.S.C. 1801 et seq.

Dated: September 16, 2020.
Tracey L. Thompson,
Acting Deputy Director, Office of Sustainable Fisheries, National Marine Fisheries Service.

[FR Doc. 2020-20777 Filed 9-18-20; 8:45 am]

BILLING CODE 3510-22-P